OFFICE OF MANAGEMENT AND BUDGET

Privacy Act of 1974; System of Records

AGENCY: Office of Management and Budget.

ACTION: Rescindment of system of records notice.

SUMMARY: The Office of Management and Budget is discontinuing two systems of records, OMB/ADSER/02, Staff Parking Application File and OMB/PERSL/01, Recruiting Records. For the Staff Parking Application File SORN (OMB/ADSER/02), OMB no longer processes or issues parking permits, and as such, does not maintain this system. The Recruiting Records SORN (OMB/PERSL/01) is no longer needed because the Office of Personnel Management issued a government-wide SORN (OPM/GOVT-5) after OMB issued the Recruiting Records SORN in 2000. OPM/GOVT-5 governs all of the records contained in OMB's 2000 Recruiting Records SORN.

DATES: This notice shall be applicable immediately.

ADDRESSES: You may submit comments through regulations.gov.

Instructions: All submissions must contain the subject heading “Rescissions.”

Privacy Act Statement: OMB is issuing this proposed action pursuant to 5 U.S.C. 552(a). Submission of comments is voluntary. Information you provide will be used to inform sound decision-making regarding this proposed notice. Please note that all submissions received in response to this notice may be posted on https://www.regulations.gov/ or otherwise released in their entirety, including any personal and business confidential information provided. Do not include in your submissions any copyrighted material; information of a confidential nature, such as personal or proprietary information; or any information you would not like to be made publicly available. The OMB System of Records Notice, OMB Public Input System of Records, OMB/INPUT/01, 88 FR 20913, July 3, 2023 (https://www.federalregister.gov/documents/2023/04/07/2023-07452/privacy-act-of-1974-system-of-records), includes a list of routine uses associated with the collection of this information.

FOR FURTHER INFORMATION CONTACT: For questions about this proposed action, please contact Shraddha A. Upadhyaya by email at SORN@omb.eop.gov or (202) 395-9225. You must include “Rescissions” in the subject line.

SUPPLEMENTARY INFORMATION: In accordance with the Privacy Act of 1974, OMB conducted a review of its Privacy Act systems of records and determined that the Staff Parking Application File, OMB/ADSER/02 can be discontinued because records related to staff parking are no longer collected or maintained by OMB. Additionally, OMB/PERSL/01, Recruiting Records can be discontinued because this system of records notice was published in March, 2000, and subsequently OPM issued a system of records notice (OPM/GOVT-5) which governs all of the records previously contained within OMB/PERSL/01.

SYSTEM NAME AND NUMBER:

Staff Parking Application File (OMB/ADSER/02) and Recruiting Records (OMB/PERSL/01).

HISTORY:

Both OMB/ADSER/02, Staff Parking Application File, and OMB/PERSL/01, Recruiting Records, were most recently published on Thursday, March 20, 2000 in the Federal Register at 65 FR 16976-16977.

Shraddha A. Upadhyaya,
Senior Agency Official for Privacy, Office of Management and Budget.

[FR Doc. 2024-20988 Filed 9-19-24; 8:45 am]

BILLING CODE 3110-01-P